DEPARTMENT OF COMMERCE

International Trade Administration

(A-570-825)

Revocation of Antidumping Duty Order on Sebacic Acid from The People's Republic of China

AGENCY: Import Administration, International Trade Administration, Department of Commerce.

Summary: On April 1, 2004, the Department of Commerce (“the Department”) initiated a sunset review of the antidumping duty order on sebacic acid from the People's Republic of China (“PRC”). See Initiation of Five-year (“Sunset”) Reviews, 70 FR 16800 (April 1, 2004)(“2004 Initiation”). Pursuant to section 751(c) of the Tariff Act from 1930, as amended (“the Act”), the United States International Trade Commission (“ITC”) determined that revocation of the antidumping duty order on sebacic acid from the PRC is not likely to lead to continuation or recurrence of material injury to an industry in the United States within a reasonably foreseeable time. See Sebacic Acid, Investigation No. 731-TA-653, 70 FR 28572 (May 18, 2005). Therefore, pursuant to 19 CFR 351.222(i)(1), the Department is revoking the antidumping duty order on sebacic acid from the PRC.

EFFECTIVE DATE: May 26, 2004

FOR FURTHER INFORMATION CONTACT: Martha V. Douthit, Office of Policy, Import Administration, International Trade Administration, U.S. Department of Commerce, 14th Street and Constitution Avenue, NW, Washington, DC 20230; telephone: (202) 482-5050.

SUPPLEMENTARY INFORMATION:

Scope of the Order

The products covered by this order are all grades of sebacic acid, a dicarboxylic acid with the formula (CH2)8(COOH)2, which include but are not limited to CP Grade (500 ppm maximum ash, 25 maximum APHA color), Purified Grade (1000 ppm maximum ash, 50 maximum APHA color), and Nylon Grade (500 ppm maximum ash, 70 maximum ICV color). The principle difference between the grades is the quantity of ash and color. Sebacic acid contains a minimum of 85 percent dibasic acids of which the predominant species is the C10 dibasic acid. Sebacic acid is sold generally as a free-flowing powder/flake. Sebacic acid has numerous industrial uses, including the production of nylon 6/10 (a polymer used for paintbrush and toothbrush bristles and paper machine felts), plasticizers, esters, automotive coolants, polyamides, polyester castings and films, inks and adhesives, lubricants, and polyurethane castings and coatings.

Sebacic acid is currently classifiable under subheading 2917.13.00.30 of the Harmonized Tariff Schedule of the United States (HTSUS). Although the HTSUS subheading is provided for convenience and customs purposes, our written description of the scope of this proceeding is dispositive.

Background

On September 1, 1999, pursuant to 19 CFR 351.218(f)(4), the Department published its notice of continuation of the antidumping duty order on sebacic acid from the PRC, following the first sunset review. See Continuation of Antidumping Duty Order; Sebacic Acid from the People's Republic of China, 64 FR 47766, (September 1, 1999).¹ On April 1, 2004, the Department initiated the second sunset review of this order pursuant to section 751(c) of the Act, and 19 CFR part 351, in general. See 2004 Initiation. As a result of the second sunset review, the Department found that revocation of the antidumping order would likely lead to continuation or recurrence of dumping and notified the ITC of the magnitude of the margin likely to prevail were the order to be revoked. See Sebacic Acid from the People's Republic of China; Final Results of Expedited Sunset Review, 69 FR 47891 (August 6, 2004).

¹ The Department normally issues its continuation of an order within seven days of the publication of the International Trade Commission's sunset determination in the Federal Register and publishes its continuation notice immediately thereafter. In this case, the publication of the continuation notice was delayed. As a result, the Department explicitly stated that the effective date of the continuation of the order on sebacic acid from the PRC was May 26, 1999.

On May 18, 2005, the ITC determined, pursuant to section 751(c) of the Act, that revocation of the antidumping duty order on sebacic acid from the PRC would not be likely to lead to continuation or recurrence of material injury to an industry in the United States within a reasonably foreseeable time. See Sebacic Acid from China, 70 FR 28572 (May 18, 2005), and USITC Pub. 3775, Inv. No. 731-TA-653 (Second Review)(May 2005).

Determination

As a result of the determination by the ITC that revocation of the antidumping duty order on sebacic acid from the PRC is not likely to lead to continuation or recurrence of material injury to an industry in the United States, the Department, pursuant to section 751(d)(2) of the Act, is revoking the antidumping duty order. Pursuant to section 751(c)(6)(A)(iii) of the Act, this revocation is effective May 26, 2004.

Effective Date of Revocation

Pursuant to sections 751(c)(3)(A) and 751(c)(6)(A)(iii) of the Act, and 19 CFR 351.222(i)(2)(i), the Department will instruct U.S. Customs and Border Protection to terminate the suspension of liquidation of the merchandise subject to this order entered, or withdrawn from warehouse, on or after May 26, 2004 (i.e., the fifth anniversary of the effective date of the continuation of the order). Entries of subject merchandise prior to the effective date of revocation will continue to be subject to suspension of liquidation and antidumping duty deposit requirements. The Department will complete any pending administrative reviews of this order and will conduct administrative reviews of subject merchandise entered prior to the effective date of revocation in response to appropriately filed requests for review.

This five-year (“sunset”) review and this notice are in accordance with sections 751(c) and 777(i)(1) of the Act.

Dated: May 25, 2005.
Holly A. Kuga,
Acting Assistant Secretary for Import Administration.

[FR Doc. E5-2811 Filed 6-1-05; 8:45 am]

BILLING CODE 3510-DS-S